DEPARTMENT OF TRANSPORTATION

Federal Aviation Administration

14 CFR Part 39

[Docket No. FAA-2017-1206; Product Identifier 2017-NE-42-AD]

RIN 2120-AA64

Airworthiness Directives; Pratt & Whitney

AGENCY: Federal Aviation Administration (FAA), DOT.

ACTION: Notice of proposed rulemaking (NPRM).

SUMMARY: We propose to adopt a new airworthiness directive (AD) for all Pratt & Whitney (PW) PW2037, PW2037M, and PW2040 turbofan engines. This proposed AD was prompted by an uncommanded high thrust event that occurred during approach on January 16, 2016, and during landing on April 6, 2016. This proposed AD would require removal of the metering valve pilot valve (MVPV) within certain fuel control units (FCUs) and the MVPV's replacement with a part eligible for installation. We are proposing this AD to address the unsafe condition on these products.

DATES: We must receive comments on this proposed AD by May 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Pratt & Whitney Division, 400 Main St., East Hartford, CT 06118; phone: 800-565-0140; fax: 860-565-5442. You may view this service information at the FAA, Engine and Propeller Standards Branch, 1200 District Avenue, Burlington, MA. For information on the availability of this material at the FAA, call 781-238-7759.

Examining the AD Docket

You may examine the AD docket on the internet at http://www.regulations.gov by searching for and locating Docket No. FAA-2017-1206; or in person at the Docket Management Facility between 9 a.m. and 5 p.m., Monday through Friday, except Federal holidays. The AD docket contains this NPRM, the regulatory evaluation, any comments received, and other information. The street address for the Docket Office (phone: 800-647-5527) is listed above. Comments will be available in the AD docket shortly after receipt.

FOR FURTHER INFORMATION CONTACT: Kevin M. Clark, Aerospace Engineer, ECO Branch, FAA, 1200 District Avenue, Burlington, MA 01803; phone: 781-238-7088; fax: 781-238-7199; email: Kevin.M.Clark@faa.gov.

SUPPLEMENTARY INFORMATION:

Comments Invited

We invite you to send any written relevant data, views, or arguments about this proposal. Send your comments to an address listed under the ADDRESSES section. Include “Docket No. FAA- 2017-1206; Product Identifier 2017-NE-42-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We received reports of an uncommanded high thrust event that occurred during approach on January 16, 2016, and during landing on April 6, 2016, due to loosening of the MVPV end cap. These uncommanded events were associated with improper maintenance on the MVPV within certain FCUs. This proposed AD would require removal of the MVPV for certain FCUs. This condition, if not addressed, could result in failure of the FCU, loss of engine thrust control, and reduced control of the airplane.

Related Service Information Under 1 CFR Part 51

We reviewed PW Alert Service Bulletin (ASB) PW2000 A73-172, dated October 16, 2017. The ASB describes procedures for replacement of the MVPV for certain FCUs. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require replacement of the MVPV for certain FCU serial numbers, except as discussed under “Differences Between this Proposed AD and the Service Information.”

Differences Between This Proposed AD and the Service Information

PW ASB PW2000 A73-172, dated October 16, 2017, specifies installation of a new UTC Aerospace Systems MVPV in certain FCUs. This AD sets forth an option to repair a MVPV to be installed in certain FCUs according to the criteria listed in paragraph h(2)(ii) of this AD.

Costs of Compliance

We estimate that this proposed AD affects 212 engines installed on airplanes of U.S. registry. We estimate the following costs to comply with this proposed AD:

Estimated Costs
Action | Labor cost | Parts cost | Cost per product | Cost on U.S. operators
Remove and replace MVPV | $0 | $12,000 | $12,000 | $2,544,000

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Pratt & Whitney: Docket No. FAA-2017-1206; Product Identifier 2017-NE-42-AD.

(a) Comments Due Date

We must receive comments by May 29, 2018.

(b) Affected ADs

None.

(c) Applicability

This AD applies to all Pratt & Whitney (PW) PW2037, PW2037M, and PW2040 turbofan engines with JFC104-1 fuel control units (FCUs) with serial numbers listed in the Accomplishment Instructions, Table 1, of PW Alert Service Bulletin PW2000 A73-172, dated October 16, 2017.

(d) Subject

Joint Aircraft System Component (JASC) Code 7321, Fuel Control/Turbine Engines.

(e) Unsafe Condition

This AD was prompted by an uncommanded high thrust event that occurred during approach on January 16, 2016, and during landing on April 6, 2016. We are issuing this AD to prevent failure of the end cap to remain taut, causing uncommanded higher fuel flow to the engine. The unsafe condition, if not addressed, could result in failure of the FCU, loss of engine thrust control and reduced control of the airplane.

(f) Compliance

Comply with this AD within the compliance times specified, unless already done.

(g) Required Actions

Remove from service the metering valve pilot valve (MVPV) from the FCU at the next FCU overhaul after the effective date of the AD and replace the MVPV with a part eligible for installation.

(h) Definitions

(1) For the purpose of this AD, an FCU overhaul is defined as the removal of the FCU from the engine and induction of the FCU into a FCU shop that can perform these procedures regardless of the scheduled maintenance action or the reason for the FCU removal.

(2) For the purpose of this AD, a part eligible for installation is one of the following:

(i) A zero time MVPV, or

(ii) An MVPV repaired by a method approved by the FAA that includes an end plug with tamper proof features.

(i) Installation Prohibition

After the effective date of this AD, do not install any MVPV removed in accordance with paragraph (g) unless it has been repaired per paragraph (h)(2)(ii) of this AD.

(j) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: ANE-AD-AMOC@faa.gov.

(2) Before using any approved AMOC, notify your appropriate principal inspector, or lacking a principal inspector, the manager of the local flight standards district office/certificate holding district office.

(k) Related Information

(1) For more information about this AD, contact Kevin M. Clark, Aerospace Engineer, ECO Branch, FAA, 1200 District Avenue, Burlington, MA 01803; phone: 781-238-7088; fax: 781-238-7199; email: Kevin.M.Clark@faa.gov.

(2) For service information identified in this AD, contact Pratt & Whitney Division, 400 Main St., East Hartford, CT 06118; phone: 800-565-0140; fax: 860-565-5442. You may view this referenced service information at the FAA, Engine and Propeller Standards Branch, 1200 District Avenue, Burlington, MA. For information on the availability of this material at the FAA, call 781-238-7759.

Issued in Burlington, Massachusetts, on April 5, 2018.
Robert J. Ganley,
Manager, Engine and Propeller Standards Branch, Aircraft Certification Service.

[FR Doc. 2018-07413 Filed 4-10-18; 8:45 am]

BILLING CODE 4910-13-P